ENVIRONMENTAL PROTECTION AGENCY

[EPA-HQ-OPP-2007-1005; FRL-8153-2]

Petition to Revoke All Tolerances and Cancel All Registrations for the Pesticide Chlorpyrifos; Notice of Availability

AGENCY: Environmental Protection Agency (EPA).

ACTION: Notice.

SUMMARY: EPA is seeking public comment on a September 12, 2007, petition from the National Resources Defense Council (NRDC) and Pesticide Action Network North America (PANNA), available in docket number EPA-HQ-OPP-2007-1005, requesting that the Agency revoke all tolerances and cancel all registrations for the pesticide chlorpyrifos. The petitioners, NRDC and PANNA, request this action to obtain what they believe would be proper application of the safety standards of the Federal Insecticide, Fungicide, and Rodenticide Act (FIFRA) and the Federal Food, Drug, and Cosmetic Act (FFDCA), section 408, as amended by the Food Quality Protection Act (FQPA) of 1996.

DATES: Comments must be received on or before December 17, 2007.

ADDRESSES: Submit your comments, identified by docket identification (ID) number EPA-HQ-OPP-2007-1005, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket's normal hours of operation (8:30 a.m. to 4 p.m., Monday through Friday, excluding legal holidays). Special arrangements should be made for deliveries of boxed information. The Docket Facility telephone number is (703) 305-5805.

Instructions: Direct your comments to docket ID number EPA-HQ-OPP-2007-1005. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available in regulations.gov. To access the electronic docket, go to http://www.regulations.gov, select “Advanced Search,” then “Docket Search.” Insert the docket ID number where indicated and select the “Submit” button. Follow the instructions on the regulations.gov website to view the docket index or access available documents. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: Tom Myers, Special Review and Reregistration Division (7508P), Office of Pesticide Programs, Environmental Protection Agency, 1200 Pennsylvania Ave., NW., Washington, DC 20460-0001; telephone number: (703) 308-8589; fax number: (703) 308-7070; e-mail address: myers.tom@epa.gov.

SUPPLEMENTARY INFORMATION:

I. General Information

A. Does this Action Apply to Me?

This action is directed to the public in general, and may be of interest to a wide range of stakeholders, including environmental, human health, and agricultural advocates; the chemical industry; pesticide users; and members of the public interested in the sale, distribution, or use of pesticides. This listing is not intended to be exhaustive, but rather provides a guide for readers regarding entities likely to be affected by this action. Since others also may be interested, the Agency has not attempted to describe all the specific entities that may be affected by this action. If you have any questions regarding the applicability of this action to a particular entity, consult the person listed under FOR FURTHER INFORMATION CONTACT.

B. What Should I Consider as I Prepare My Comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. What Action is the Agency Taking?

EPA requests public comment during the next 60 days on a petition (available in docket number EPA-HQ-OPP-2007-1005) received from the NRDC and PANNA requesting that the Agency revoke all tolerances (maximum legal residue limits) and cancel all registrations for the pesticide chlorpyrifos. The petitioners, NRDC and PANNA, claim that EPA cannot make a finding that there is a reasonable certainty of no harm from dietary residues of chlorpyrifos and, therefore, that the Agency must revoke all tolerances established under section 408 of the FFDCA, as amended by the FQPA. As a part of their petition, NRDC and PANNA claim that the Agency did not consider the full spectrum of potential health effects associated with chlorpyrifos in connection with EPA's reassessment of the existing chlorpyrifos tolerances, including:

1. Evidence showing the potential for a greater than 10-fold difference in susceptibility to chlorpyrifos across human populations and, in particular, evidence of greater susceptibility in early life stages than EPA estimated;

2. The endocrine disrupting effects of the chemical, or

3. Evidence of cancer risk data as indicated from a National Institutes of Health study.

The petition further asserts that EPA's evaluation of chlorpyrifos in the organophosphate cumulative risk assessment (CRA) misrepresented the risks of chlorpyrifos and that EPA failed to incorporate inhalation routes of exposure to chlorpyrifos in conducting its assessment. EPA's human health assessment of chlorpyrifos and findings on whether the tolerances for chlorpyrifos comply with the safety standard in FFDCA Section 408, as amended by the FQPA, are contained in the Interim Reregistration Eligibility Decision document for chlorpyrifos and the organophosphate CRA, which are available on EPA's pesticide webpage at http://www.epa.gov/pesticides/reregistration/status.htm and http://www.epa.gov/pesticides/cumulative/2006-op/index.htm. Docket materials for this pesticide are available in the electronic docket at http://www.regulations.gov; risk assessment and related documents for this pesticide have been removed to Special Docket EPA-HQ-OPP-2007-0151.

List of Subjects

Environmental protection, Pesticides and pests, Chlorpyrifos, National Resources Defense Council, Pesticide Action Network North America.

Dated: October 9, 2007.
Steven Bradbury,
Director, Special Review and Reregistration Division, Office of Pesticide Programs.

[FR Doc. E7-20442 Filed 10-16-07; 8:45 am]

BILLING CODE 6560-50-S